DEPARTMENT OF TRANSPORTATION

Surface Transportation Board

[Docket No. RR 999 (Amendment No. 5)]

Released Rates of Motor Common Carriers of Household Goods

AGENCY: Surface Transportation Board.

ACTION: Notice of changes to rules protecting consumers during interstate household-goods moves.

SUMMARY: Notice is hereby given of recent Board decisions concerning interstate household-goods moves. In a decision served January 21, 2011 (January 2011 Decision), the Board implemented a Congressional directive to enhance consumer protection in the case of loss or damage that occurs during interstate household-goods moves.¹ The January 2011 Decision required movers to provide certain information concerning the two available cargo-liability options ² on the written estimate form—the first form that a moving company must give to a customer—and tentatively raised the dollar value levels used in reimbursing a consumer under the replacement-value option for lost or damaged goods when the consumer had not declared in advance how much the goods were worth. In a decision served on January 12, 2012 (January 2012 Decision), the Board, after reviewing comments filed in response to the January 2011 Decision, modified the requirement in the January 2011 Decision that certain information be put on the estimate form, and it adopted the raised value levels. In particular, the estimate form will now require a shorter notice to be conspicuously placed to notify the consumer early on that it will need to select a liability option at a later time. The brief notice must also refer a potential customer to two sources of further information on the two liability levels and their meaning. Furthermore, the Board will require that movers include the lengthier Valuation Statement ³ on the bill of lading. In addition, the Board affirmed that the charges for full-value protection when the customer does not provide a declared value for a shipment will be the higher of $6.00 per pound (which may be indexed annually) or $6,000. The Board also clarified other aspects of the January 2011 Decision, including the application of these changes to household-goods freight forwarders. Finally, the Board established April 2, 2011, as the effective date for moving companies to comply with the changes outlined in the two decisions. These Board decisions are available on the Board's Web site at www.stb.dot.gov.

¹ See Safe, Accountable, Flexible, Efficient Transportation Equity Act: A Legacy for Users (SAFETEA-LU), 4215, Public Law 109-59, 119 Stat. 1144, 1760 (2005). The Board published notice of the January Decision on January 31, 2011 (76 FR 5,431).

² Under one of those options, the consumer would be reimbursed for loss in the amount of 60 cents per pound. Under the other, reimbursement would be based on the replacement value of the goods shipped.

³ The Valuation Statement is a statement that a consumer hiring a moving company must sign either declaring a total value for the shipment or electing the alternative, per-pound basis on which recovery for any loss would be based.

By decision served on March 9, 2012, the Board granted in part the request of the American Moving and Storage Association for a postponement of the effective date of the decisions. The January 2011 and January 2012 Decisions will become effective on May 15, 2012.

This decision will not significantly affect either the human environment or the conservation of energy resources.

Decided: March 8, 2012.
By the Board, Chairman Elliott, Vice Chairman Mulvey, and Commissioner Begeman.
Jeffrey Herzig,
Clearance Clerk.

[FR Doc. 2012-6139 Filed 3-13-12; 8:45 am]

BILLING CODE 4915-01-P